DEPARTMENT OF THE INTERIOR

Fish and Wildlife Service

Availability of a Draft Environmental Assessment on Proposed Special Regulations for the Preble's Meadow Jumping Mouse

AGENCY: Fish and Wildlife Service, Department of the Interior.

ACTION: Notice; correction.

SUMMARY: On August 2, 2000, the U.S. Fish and Wildlife Service published a Notice of Availability of a draft Environmental Assessment on the Proposed Special Regulations for the Preble's meadow jumping mouse (Zapus hudsonius preblei). This Notice contained errors in the address and phone number of the office to contact for a copy of the Environmental Assessment.

Correction

In the Federal Register of August 2, 2000, on page 47513 , correct the ADDRESSES Section to read:

ADDRESSES: Comments and requests for copies of the assessment should be submitted to the Field Supervisor, U.S. Fish and Wildlife Service, 755 Parfet Street, Suite 361, Lakewood, Colorado 80215, telephone (303) 275-2370. The draft Environmental Assessment also is available on our website at http://www.r6.fws.gov.

Dated: August 3, 2000.
John A. Blankenship,
Regional Director, Denver, Colorado.

[FR Doc. 00-20227 Filed 8-9-00; 8:45 am]

BILLING CODE 4310-55-P